SURFACE TRANSPORTATION BOARD

[Docket No. FD 36064]

Genesee & Wyoming Inc.—Acquisition of Control Exemption—Providence and Worcester Railroad Company

On September 1, 2016, Genesee & Wyoming Inc. (GWI) filed a petition under 49 U.S.C. 10502 and 49 CFR 1121 for exemption from the provisions of 49 U.S.C. 11323-11324 to allow GWI to acquire control of Providence and Worcester Railroad Company (P&W), a Class III railroad. GWI is a noncarrier holding company controlling two Class II carriers and 106 Class III carriers in the United States.

GWI states that this transaction is not eligible for the exemption at 49 CFR 1180.2(d)(2) because lines owned and operated by P&W connect with lines owned and operated by two railroads in GWI's corporate family. GWI asks for expedited consideration and requests a decision by November 15, 2016. Four railroads and one labor union ¹ have filed notices of intent to participate in this proceeding.

¹ On September 2, 2016, Norfolk Southern Railway Company, Springfield Terminal Railway Company, and Pan Am Southern LLC filed notices of intent to participate. Housatonic Railroad Company, Inc., filed a notice of intent to participate on September 8, 2016, and the Transportation Division of the International Association of the Sheet Metal, Air, Rail and Transportation Workers filed a notice of intent to participate on September 16, 2016.

The Board will institute an exemption proceeding pursuant to 49 U.S.C. 10502(b). A procedural schedule for comments to the petition will be set as noted below.

It is ordered:

1. An exemption proceeding is instituted under 49 U.S.C. 10502(b).

2. Replies to GWI's petition are due by October 11, 2016.

3. Notice of this decision will be published in the Federal Register.

4. This decision is effective on its date of service.

Decided: September 19, 2016.

By the Board, Rachel D. Campbell, Director, Office of Proceedings.
Kenyatta Clay,
Clearance Clerk.

[FR Doc. 2016-22985 Filed 9-22-16; 8:45 am]

BILLING CODE 4915-01-P